DEPARTMENT OF AGRICULTURE

Rural Business-Cooperative Service

Maximum Loan Amount Available for B&I Guaranteed Loans in Fiscal Year 2011

AGENCY: Rural Business-Cooperative Service, USDA.

ACTION: Notice.

SUMMARY: 7 CFR 4279.119(a)(1) allows the Rural Development Administrator, at the Administrator's discretion, to grant an exception to the $10 million limit for Business and Industry (B&I) guaranteed loans of $25 million or less under certain circumstances. Due to the limited program funds that will be available for Fiscal Year 2011 for the B&I Guaranteed Loan Program, the Administrator has decided not to grant exceptions to the $10 million limit during FY 2011 in an effort to make guaranteed loan funds go farther and to provide financing assistance to as many projects as possible. Limiting guaranteed loans to $10 million or less will allow the Agency to guarantee more loans and target smaller loans/projects impacting more small businesses and will assist the Agency to conserve scarce funding dollars at a time when there is unprecedented interest in the program. Any applications or pre-applications that have been received as of the date of publication of this notice will be given full consideration.

DATES: Effective Date: April 20, 2011.

FOR FURTHER INFORMATION CONTACT: Brenda Griffin, e-mail brenda.griffin@wdc.usda.gov, Rural Development, Business Programs, Business and Industry Division, STOP 3224, 1400 Independence Avenue, SW., Washington, DC 20250-3224, telephone (202) 720-6802.

SUPPLEMENTARY INFORMATION: This action has been reviewed and determined not to be a rule or regulation as defined in Executive Order 12866 as amended by Executive Order 13258.

Dated: March 28, 2011.
Judith A. Canales,
Administrator, Rural Business-Cooperative Service.

[FR Doc. 2011-9480 Filed 4-19-11; 8:45 am]

BILLING CODE 3410-XY-P